DEPARTMENT OF TRANSPORTATION

Federal Highway Administration

Environmental Impact Statement: Hamilton and Clermont Counties, OH

AGENCY: Federal Highway Administration (FHWA), DOT.

ACTION: Notice of Intent (NOI) to prepare an Environmental Impact Statement (EIS).

SUMMARY: The FHWA is issuing this notice to advise the public that a Tier 2 Environmental Impact Statement (EIS) will be prepared for proposed highway and light rail improvements in the SR 32 corridor between US 50 and IR 275 in Hamilton and Clermont Counties, Ohio.

FOR FURTHER INFORMATION CONTACT: Mark L. Vonder Embse, Major Projects Engineer, Federal Highway Administration, 200 North High Street, Room 328, Columbus, Ohio 43215, Telephone: (614) 280-6854.

SUPPLEMENTARY INFORMATION: The FHWA, in cooperation with the Ohio Department of Transportation (ODOT), will prepare a Tier 2 Environmental Impact Statement (EIS) for proposed improvements to SR 32 from US 50 in Hamilton County east to IR 275 in Clermont County. The broader study area in the Tier 1 documentation was referred to as the Eastern Corridor. This notice applies only to the project identified as Segments II-III of the proposed new highway and Segment 3 of the proposed Oasis Rail Line which would share the right-of-way with relocated SR-32.

Tier 1 of the Eastern Corridor evaluated transportation needs and focused on broad issues such as mode choice, general location, preliminary costs, benefits and impacts within a study area extending from downtown Cincinnati to western Clermont County. The analysis and input was summarized in a Tier 1 Final Environmental Impact Statement (FEIS) (FHWA-OH-EIS-04-02-F) dated September 30, 2005. A Tier 1 Record of Decision issued on June 2, 2006 identified feasible multi-modal components to be advanced by mode and segment into Tier 2 NEPA analyses, including a new rail transit corridor composed of four implementation segments, improved bus transit, various local network improvements, and a new highway capacity corridor composed of five implementation segments. In the interim, new information came to light regarding the archaeological resources present in connection with the Hahn Archaeological District. The discovery of this information prompted a re-evaluation of the Tier 1 ROD to determine if the decision contained there-in remained valid and if a Supplemental EIS should be prepared prior to moving into a Tier 2 EIS. On February 9, 2012 FHWA recommended advancing the project into a Tier 2 EIS as the appropriate level of study and analysis to determine the significance of impacts to archaeological sites. This Tier 2 EIS for the proposed Segments II-III SR 32 project and proposed Oasis Rail Line Segment 3 will involve more detailed engineering and environmental studies to address project-specific impacts, costs and mitigation measures, and will follow a framework for integrating land use, economic development, and environmental stewardship established during Tier 1.

The purpose and need for highway capacity improvements as established in Tier 1 is to reduce congestion, improve safety and efficiency, provide operational capacity for bus transit, accommodate bike and pedestrian ways, and support economic development and community revitalization consistent with the regional land use vision plan. The purpose and need for rail transit investments is to provide a regional transportation alternative to driving, increase mobility for non-drivers, support an expanded bus network, establish stations that effectively link to bus, bike, pedestrian, and roadway systems, connect downtown Cincinnati with outlying areas of population and employment, support neighborhood development and revitalization consistent with the land use vision plan, and reduce demand for new highway capacity while providing a way to meet the future travel demand. Proposed improvements identified during Tier 1 involve: relocation of SR 32, a new interchange at US 50/Red Bank Road/SR 32, and planning for (coordination with) associated Eastern Corridor multi-modal improvements, including the proposed Oasis rail transit (a portion of which parallels the Segment II-III corridor), a multi-modal clear-span crossing of the Little Miami River (including roadway, rail transit and bikeway) and multi-modal transit hubs at US 50 and Newtown Road. Total length is about six miles. Alternatives to be further evaluated in Tier 2 include (1) taking no action; (2) various interchange configuration options for US 50/Red Bank Road/SR 32; and (3) several alternatives and combinations of alternatives through the Little Miami River floodplain and Newtown.

Letters describing the proposed action and soliciting comments will be sent to appropriate Federal, State and local agencies and to private organizations and citizens who previously expressed or are known to have an interest in the project. Public meetings and a public hearing will be held in the project area. Public notice will be given of the time and place of the meetings and hearing. A draft of the Tier 2 EIS will be available for public and agency review and comment prior to the public hearing.

To ensure that the full range of issues related to this proposed action is identified and addressed, comments and suggestions are invited from all interested parties. Comments and questions concerning the proposed action should be directed to the FHWA at the address provided above.

Catalog of Federal Domestic Assistance Number and Title: FHWA 20.205 Highway Planning and Construction (A, B)

Authority: 23 U.S.C. 315; 49 CFR 1.48.

Issued on: April 30, 2012.
Laura S. Leffler,
Division Administrator, Federal Highway Administration, Columbus, Ohio.

[FR Doc. 2012-11145 Filed 5-8-12; 8:45 am]

BILLING CODE 4910-22-P